DEPARTMENT OF STATE

[Public Notice 8195]

Shipping Coordinating Committee Notice of Renewal of Charter

SUMMARY: The Department of State has renewed the Charter for the Shipping Coordinating Committee (SHC) without significant substantive change. Through this Committee, the Department of State will continue to obtain the views and advice of interested government agencies and bureaus and public members in the maritime and related fields, on issues related to maritime security, safety of life at sea, and protection of the marine environment considered by the International Maritime Organization (IMO), and other matters relating to international maritime shipping. The Under Secretary for Management has determined the Committee is necessary and in the public interest.

The Committee follows the procedures prescribed by the Federal Advisory Committee Act (FACA). Meetings will be open to the public unless a determination is made in accordance with section 10(d) of the FACA and 5 U.S.C. 552b(c) that a meeting or portion of the meeting should be closed to the public. Notice of each meeting will be published in the Federal Register at least 15 days prior to the meeting, unless there are extraordinary circumstances that require shorter notice.

For further information, please contact: Lieutenant Commander Brian W. Robinson, Executive Secretary, Shipping Coordinating Committee, U.S. Department of State, Office of Oceans Affairs, at RobinsonBW@state.gov or by telephone at 202-647-3946. A copy of the Committee charter may also be obtained by accessing the FACA database maintained by the General Services Administration: http://fido.gov/facadatabase.

Dated: January 22, 2013.
Brian W. Robinson,
Executive Secretary, Shipping Coordinating Committee, Department of State.

[FR Doc. 2013-04144 Filed 2-21-13; 8:45 am]

BILLING CODE 4710-09-P